DEPARTMENT OF HOMELAND SECURITY

[Docket number DHS-2014-0027]

Meetings: Homeland Security Information Network Advisory Committee (HSINAC)

AGENCY: Operation Coordination and Planning/Office of Chief Information Officer (OPS/OCIO), DHS.

ACTION: Committee Management; Notice of Federal Advisory Committee Meeting.

SUMMARY: The Homeland Security Information Network Advisory Council (HSINAC) will meet August 6, 2014 from 1 p.m.-3 p.m. EDT virtually through HSIN Connect, an online web-conferencing tool, and via teleconference. The meeting will be open to the public.

DATES: The HSINAC will meet Wednesday, August 6, 2014 from 1 p.m.-3 p.m. EDT virtually through HSIN Connect, an online web-conferencing tool, and via teleconference, both of which will be made available to members of the general public. Please note that the meeting may end early if the committee has completed its business.

ADDRESSES: The meeting will be held virtually via HSIN Connect, an online web-conferencing tool at https://share.dhs.gov/hsinac, and available via teleconference at 1-800-593-7197 Conference Pin: 7321936. To access the web conferencing tool go to https://share.dhs.gov/hsinac, click on “enter as a guest,” type in your name as a guest and click “submit.” The teleconference lines will be open for the public and the meeting materials will be posted beforehand on the Federal Register site (https://www.federalregister.gov/). Type “HSIN Advisory Committee” in the search field of the Web site's home page. If the Federal government is closed, the meeting will be rescheduled.

For information on facilities or services for individuals with disabilities or to request special assistance during the meeting, contact Ray Ragone at ray.ragone@hq.dhs.gov or 202-343-4213 as soon as possible.

To facilitate public participation, we are inviting public comment on the issues to be considered by the committee. Comments will be accepted in writing until August 1, 2014 and must be identified by the docket number—DHS-2014-0027—and may be submitted by one of the following methods:

• Federal eRulemaking Portal: http://www.regulations.gov. Follow the instructions for submitting comments.

• Email: Ray Ragone, ray.ragone@hq.dhs.gov. Also include the docket number in the subject line of the message.

• Fax: 202-343-4294.

• Mail: Ray Ragone, Department of Homeland Security, OPS CIO, Stop 0426, 245 Murray Lane SW., BLDG 410, Washington, DC 20528-0426.

Instructions: All submissions received must include the words “Department of Homeland Security” and the docket number (DHS-2014-0027) for this action. Comments received will be posted without alteration at http://www.regulations.com including any personal information provided.

Docket: For access to the docket to read background documents or comments received by the HSINAC go to http://www.regulations.gov and type the docket number of DHS-2014-XXXX into the “search” field at the top right of the Web site.

A public comment period will be held during the meeting on Wednesday, August 6, 2014 from 2:45 p.m. to 3 p.m., and speakers are requested to limit their comments to 3 minutes. Please note that the public comment period may end before the time indicated, following the last call for comments. Contact one of the individuals listed below to register as a speaker.

FOR FURTHER INFORMATION CONTACT: Designated Federal Officer, Michael Brody, Michael.brody@hq.dhs.gov, Phone: 202-282-9464, Fax: 202-343-4294, or Alternate Designated Federal Officer, Ray Ragone, ray.ragone@hq.dhs.gov 202-343-4213.

SUPPLEMENTARY INFORMATION: The Homeland Security Information Network Advisory Committee (HSINAC) is an advisory body to the Homeland Security Information Network (HSIN) Program Office. This committee provides advice and recommendations to the U.S. Department of Homeland Security (DHS) on matters relating to HSIN. These matters include system requirements, operating policies, community organization, knowledge management, interoperability and federation with other systems, and any other aspect of HSIN that supports the operations of DHS and its Federal, state, territorial, local, tribal, international, and private sector mission partners. Notice of this meeting is given under the Federal Advisory Committee Act, 5 U.S.C. Appendix. The HSINAC provides advice and recommendations to DHS on matters relating to HSIN.

Agenda

• HSIN Program Management Office Update (PMO) Update.

○ Development—Review the latest updates from the HSIN Development Manager who will outline the Program's development plan for the remainder of the fiscal year.

Project Update—Discuss the large development tasks at-hand, specifically aligned with Interoperability and Federation.

○ Communications—Review and discuss the HSIN Messaging Strategy questionnaire that was conducted with primary points of contact across the HSIN PMO.

○ Adobe Connect—Provide the Advisory Committee with an update on the advancements with Adobe Connect licensing and the future of Telephony and Single Sign-On.

○ Outreach—A summary of recent activities that the Mission Advocates are supporting and a future calendar of activities for the remainder of the fiscal year.

• Overview of the new HSINAC site—Provide a brief demonstration and description of the HSIN site created for the HSINAC members.

• Subcommittees.

○ Tools and Features—Discuss the kick-off of this subcommittee and the initial topic at-hand: mobility.

○ Federation and Interoperability—Discuss the kick-off and initial topics of discussion for the subcommittee.

○ Outreach Coordination—Discuss the kick-off and initial topics of discussion for the subcommittee.

• Public Comment Period.

• Closing remarks.

• Adjournment of the meeting.

James Lanoue,
HSIN Acting Program Manager.

[FR Doc. 2014-16113 Filed 7-9-14; 8:45 am]

BILLING CODE 9110-9B-P